DEPARTMENT OF AGRICULTURE

Office of the Secretary

7 CFR Subtitles A and B

9 CFR Chapters I, II, and III

Withdrawal of Certain Proposed Rules

AGENCY: Office of the Secretary, USDA.

ACTION: Notice of withdrawal.

SUMMARY: The United States Department of Agriculture (USDA) is announcing that it has withdrawn certain proposed rules that were either published in the Federal Register more than 3 years ago without subsequent action or determined to no longer be candidates for final action. USDA is taking this action to reduce its regulatory backlog and focus its resources on higher priority actions. The Department's actions are part of an overall regulatory reform strategy to reduce regulatory burden on the public and to ensure that future Unified Agendas of Regulatory and Deregulatory Actions provide the public accurate information about rulemakings the Department intends to undertake.

DATES: The pending proposed rules are withdrawn on September 10, 2019.

FOR FURTHER INFORMATION CONTACT: Michael Poe, Telephone Number: (202) 720-3323.

SUPPLEMENTARY INFORMATION:

Background

To promote transparency in regulatory planning, the Administration, beginning with the Spring 2017 Unified Agenda, published for the first time an “inactive” list of agency regulatory actions that were under review but not included in the Unified Agenda. Such “inactive” actions allow agencies to take additional time to review a regulatory or deregulatory action and to preserve the regulatory identification number (RIN) and title for possible future use. After further review, and to clean out a backlog of older, obsolete RINs, USDA is taking this action to reduce its regulatory backlog and focus its resources on higher priority actions. The Department's actions are part of an overall regulatory reform strategy to reduce regulatory burden on the public and to ensure that future Unified Agendas of Regulatory and Deregulatory Actions provided the public accurate information about rulemakings the Department intends to undertake.

USDA reviewed its pending regulatory actions based on proposed rules that published in the Federal Register more than 3 years ago, and for which no final rule or notice of withdrawal has been issued. The agency identified 5 such regulatory actions for withdrawal.

Although not required to do so by the Administrative Procedure Act or by regulations of the Office of the Federal Register, the agency believes the public interest is best served by announcing in the Federal Register that it has withdrawn these 5 items. Therefore, for the reasons set forth above, USDA announces that it has withdrawn the pending regulatory actions related to the following documents, which were published in the Federal Register on the dates indicated in the table below.

Agency | RIN | Title | Published action | Date | FR Cite
FSIS | 0583-AC46 | Performance Standards for the Production of Processed Meat and Poultry Products | NPRM | 8/03/2006 | 71 FR 43992
APHIS | 0579-AE02 | Livestock Marketing Facilities | NPRM | 1/2/2015 | 80 FR 6
FNS | 0584-AD88 | Supplemental Nutrition Assistance Program: Farm Bill of 2008 Retailer Sanctions | NPRM | 8/14/2012 | 77 FR 48461
FNS | 0584-AE00 | Emergency Supplemental Nutrition Assistance for Victims of Disasters Procedures | NPRM | 5/10/2016 | 81 FR 28738
Forest Service | 0596-AD20 | Proposed Directive for Commercial Filming in Wilderness; Special Uses Administration | NPRM | 9/4/2014 | 79 FR 52626

The withdrawal of these proposals identified in this document does not preclude the Department from reinstituting rulemaking concerning the issues addressed in the proposals listed in the chart. Should we decide to undertake such rulemakings in the future, we will re-propose the actions and provide new opportunities for comment. Furthermore, this notice is only intended to address the specific actions identified in this document, and not any other pending proposals that USDA has issued or is considering. The Department notes that withdrawal of a proposal does not necessarily mean that the preamble statement of the proposal no longer reflects the current position of USDA on the matter addressed. You may wish to review the Department's website (http://www.USDA.gov) for any current guidance on these matter matters.

Dated: August 28, 2019.
Rebeckah Adcock,
Regulatory Reform Officer and Senior Adviser to the Secretary.

[FR Doc. 2019-19572 Filed 9-9-19; 8:45 am]

BILLING CODE 3410-90-P